ENVIRONMENTAL PROTECTION AGENCY

[ER-FRL-8595-2]

Environmental Impacts Statements; Notice of Availability

Responsible Agency: Office of Federal Activities, General Information (202) 564-1399 or http://www.epa.gov/compliance/nepa/.

Weekly receipt of Environmental Impact Statements

Filed 06/29/2009 Through 07/03/2009

Pursuant to 40 CFR 1506.9.

EIS No. 20090222, Draft EIS, AFS, NM, Rinconada Communication Site, Designation of Site to Serve Present and Future High Power Communication Needs and to Permit the Development of a Radio Transmission Facility within Site, Mt. Taylor Ranger District, Cibola National Forest, Cibola County, NM, Comment Period Ends: 08/24/2009, Contact: Keith Baker 505-346-3820.

EIS No. 20090223, Draft EIS, AFS, NV, Jarbridge Ranger District Rangeland Management Project, Proposed Reauthorizing Grazing on 21 Existing Grazing Allotments, Humboldt Toiyabe National Forest, Elko County, NV, Comment Period Ends: 08/24/2009, Contact: Vern Keller 775-355-5356.

EIS No. 20090224, Final EIS, AFS, SD, Telegraph Project Area, Proposes to Implement Multiple Resource Management Actions, Northern Hills Ranger District, Black Hills National Forest, Lawrence and Pennington Counties, SD, Wait Period Ends: 08/10/2009, Contact: Chris Stores 605-642-4622

EIS No. 20090225, Draft EIS, AFS, ND, North Billings County Allotment Management Plan Revisions, Proposes to Continue to Permit Livestock Grazing on 43 Allotments, Medora Ranger District, Dakota Prairie Grasslands, Billings County, ND, Comment Period Ends: 08/24/2009, Contact: Jeff Adams 701-227-7800.

EIS No. 20090226, Draft EIS, FHW, CA, 6th Street Viaduct Seismic Improvement Project, Retrofitting or Demolition and Replacement of the Existing Viaduct over the Los Angeles River between Mateo and Mill Streets, Los Angeles County, CA, Comment Period Ends: 08/24/2009, Contact: Eric Worrell 916-498-5890.

EIS No. 20090227, Draft EIS, UAF, AZ, Barry M. Goldwater Ranger East Range Enhancements, Proposes to Take Ten Different Actions would Enhance Range Operations and Training, Yuma, Pima and Maricopa Counties, AZ, Comment Period Ends: 08/24/2009, Contact: Lisa McCarrick 623-856-9475.

EIS No. 20090228, Final EIS, CGD, FL, Port Dolphin LLC Liquefied Natural Gas Deepwater Port License Application, Proposes to Own, Construct and Operate a Deepwater Port, Outer Continental Shelf, Manatee County, FL, Wait Period Ends: 08/10/2009, Contact: Raymond Martin 202-372-1449.

EIS No. 20090229, Draft EIS, NPS, FL, Big Cyress National Preserve Addition, General Management Plan/Wilderness Study/Off-Road Vehicle Management Plan, Implementation, Collier County, FL, Comment Period Ends: 09/08/2009, Contact: Patrick Malone 303-969-2415.

EIS No. 20090230, Draft EIS, AFS, CO, North San Juan Sheep and Goat Allotments, Proposal to Permit Domestic Livestock Grazing Management, Conejos Peak Ranger District, Rio Grande National Forest, Conejos, Rio Grande and Archuleta Counties, CO, Comment Period Ends: 08/24/2009, Contact: Kellly Garcia 719-274-8971.

EIS No. 20090231, Draft EIS, BIA, CA, Point Molate Mixed-Use Tribal Destination Resort and Casino, Proposed Project is to Strengthen the Tribal Government and Improve the Socioeconomic Status, Guidiville Band of Pomo Indian of the Guidiville Rancheria (Tribe), City of Richmond, Contra Costa County, CA, Comment Period Ends: 09/23/2009, Contact: Larry Blevin 916-978-6037.

EIS No. 20090232, Draft EIS, BIA, CA, Soboba Band of Luiseno Indians Horseshoe Grande Fee-to-Trust Project, Construction of a Hotel and Casino, City of San Jacinto, Riverside County, CA, Comment Period Ends: 09/15/2009, Contact: Pat O'Mallan 916-978-6043.

Dated: July 7, 2009.
Robert W. Hargrove,
Director, NEPA Compliance Division, Office of Federal Activities.

[FR Doc. E9-16353 Filed 7-9-09; 8:45 am]

BILLING CODE 6560-50-P